NATIONAL AERONAUTICS AND SPACE ADMINISTRATION

[22-016]

Agency Information Collection Activities; Astronaut's System for Tracking and Requesting Appearances

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by May 9, 2022.

ADDRESSES: Written comments and recommendations for this information collection should be sent within 60 days of publication of this notice to www.reginfo.gov/public/do/PRAMain. Find this particular information collection by selecting “Currently under 60-day Review—Open for Public Comments” or by using the search function.

FOR FURTHER INFORMATION CONTACT: Requests for additional information or copies of the information collection instrument(s) and instructions should be directed to Claire Little, NASA Clearance Officer, NASA Headquarters, 300 E Street SW, JF0000, Washington, DC 20546, 202-358-2375 or email claire.a.little@nasa.gov.

SUPPLEMENTARY INFORMATION:

I. Abstract

This collection of information supports the National Aeronautics and Space Act of 1958, as amended, to enable NASA astronaut appearances before a variety of groups to inform the general public about the U.S. space program. Typically, presentations are made to high schools and universities, community organizations, businesses and associations, or military organizations. In order to reach as many people as possible, NASA offers three options to choose from in requesting an astronaut appearance:

(1) An in-person astronaut appearance whereby the astronaut travels to the appearance location.

(2) A virtual appearance utilizing virtual telecommunications tools to connect an astronaut via video conference with your organization.

(3) A recorded greeting arranged in advance to be used during a specified event.

The NASA Astronaut Appearance Office (AAO) located at the Lyndon B. Johnson Space Center (JSC) in Houston, Texas is responsible for vetting, processing, and coordinating logistics for Astronaut appearances. This information will be used by the NASA AAO and Legal and HR personnel in the vetting, coordinating, scheduling and authorization processes to work with requestors to facilitate the appearance logistics. Records of appearances, including the information associated with the requestor and points of contact are maintained by the AAO for a minimum of five (5) years.

II. Methods of Collection

Electronic.

III. Data

Title: ASTRA Official Appearance Request.

OMB Number:

Type of review: New.

Affected Public: Individuals.

Estimated Annual Number of Activities: 1,000.

Estimated Number of Respondents per Activity: 1.

Annual Responses: 1,000.

Estimated Time per Response: 10 minutes.

Estimated Total Annual Burden Hours: 167 hours.

Estimated Total Annual Cost: $1,450.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2022-04853 Filed 3-7-22; 8:45 am]

BILLING CODE 7510-13-P